DEPARTMENT OF COMMERCE

National Oceanic and Atmospheric Administration

0648-XD23

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits, Conservation and Education Division, Office of Protected Resources, NMFS, 1315 East-West Highway, Room 13705, Silver Spring, MD 20910; phone (301)713-2289; fax (301)427-2521.

FOR FURTHER INFORMATION CONTACT: Office of Protected Resources, Permits Division, (301)713-2289.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation were issued in Fiscal Year 2007.

File No. 572-1869: Issued to Daniel K. Odell, Ph.D., Hubbs-SeaWorld Research Institute, 6295 Sea Harbor Drive, Orlando, FL 32821 on November 14, 2006, for vessel surveys to conduct photo-identification, behavioral observations, passive acoustic recordings, and videography of bottlenose dolphins (Tursiops truncatus) in the Indian River Lagoon on the east-central coast of Florida; in the Key West (Monroe County, FL) area; and in the coastal waters of Georgia, primarily in the vicinity of Sapelo Sound and St. Catherine's Island. In addition, aerial surveys of bottlenose dolphins will be conducted over the Indian River Lagoon. These activities may be conducted through November 14, 2011.

File No. 699-1891: Issued to Kathryn A. Ono, Ph.D., University of New England, 11 Hills Beach Road, Biddeford, ME 04005 on January 11, 2007, for a study to determine the diet of seals off the coast of Maine and to use fecal DNA to determine if hard part analysis is an accurate representation of the occurrence of certain prey species in pinniped diets. This study will result in harassment of gray seals (Halichoerus grypus), harbor seals (Phoca vitulina), hooded seals (Cystophora cristata), and harp seals (Pagophilus groenlandicus) in coastal Maine through December 1, 2011.

File No. 809-1902: Issued to Susan G. Barco, Virginia Aquarium & Marine Science Center Foundation, 717 General Booth Boulevard, Virginia Beach, VA 23451 on February 21, 2007, for vessel surveys for photo-identification of bottlenose dolphins throughout the coastal and offshore waters geographically contiguous with the Commonwealth of Virginia (including Maryland waters of the Chesapeake Bay, Assateague Island to Ocean City, and waters off northeastern North Carolina) through February 28, 2012.

File No. 1094-1836-02: Issued to Peggy Stap, 1479 W. Dowling Rd., Dowling, MI 49050-9718, on March 7, 2007, for conducting small vessel surveys to collect photo-identification and behavioral data using photography, video, and hydrophone recordings to study the foraging strategies of transient and offshore killer whales (Orcinus orca) as well as investigate the abundance, distribution, movement, and frequency of occurrence of other cetacean species in the Monterey Bay National Marine Sanctuary. This study will result in takes of 17 species of cetaceans through April 30, 2011. This study was modified to add harassment of California sea lions (Zalophus californianus), northern elephant seals (Mirounga angustirostris), northern fur seals (Callorhinus ursinus), and harbor seals. This amended GA LOC supercedes version 1094-1836-01, issued on June 30, 2006.

File No. 717-1909: Issued to Jan Ostman-Lind, Ph.D., Kula Nai'a Wild Dolphin Research Foundation, P.O. Box 6870, Kamuela, HI 96743 on March 29, 2007, for vessel surveys to conduct photo-identification, focal follows, and passive acoustic recordings of spinner dolphins (Stenella longirostris) in coastal waters off the Island of Hawai'i and in waters up to 25 nautical miles offshore through March 31, 2012.

File No. 819-1800-01: Issued to John G. Morris, Ph.D., Florida Institute of Technology, Biology Department, 150 West University Boulevard, Melbourne, FL 32901 on April 9, 2007, for photo-identification, behavioral observations, and passive acoustic recordings of bottlenose dolphins, via vessel surveys in the Indian River Lagoon, Florida between Eau Gallie and Sebastian Inlet through August 31, 2008. This study was modified to extend the duration from August 31, 2007 to August 31, 2008. This amended GA LOC supercedes version 819-1800, issued on July 27, 2005.

File No. 881-1918: Issued to Anne Hoover-Miller, Alaska SeaLife Center, 301 Railway Avenue, P.O. Box 1329, Seward, AK 99664 on May 9, 2007, for aerial and vessel surveys and remote video monitoring of harbor seals in Alaska through May 15, 2012.

File No. 699-1891-01: Issued to Kathryn A. Ono, Ph.D., University of New England, 11 Hills Beach Road, Biddeford, ME 04005 on June 8, 2007, for a study to determine the diet of seals off the coast of Maine and to use fecal DNA to determine if hard part analysis is an accurate representation of the occurrence of certain prey species in pinniped diets. This study, which will result in harassment of gray, harbor, harp, and hooded seals in coastal Maine through December 1, 2011, was modified to include collection of harbor seal scat and additional harassment of harbor seals. This amended GA LOC supercedes version 699-1891, issued on January 11, 2007.

File No. 481-1795-01: Issued to Tamara McGuire, Ph.D., LGL Alaska Research Associates, Inc., 1101 East 76th Avenue, Suite B, Anchorage, AK 99516 on August 21, 2007, for aerial, vessel, and land-based surveys of belugas (Delphinapterus leucas) in upper Cook Inlet, Alaska. The study, which includes acoustic monitoring and incidental harassment during prey studies of belugas, is authorized until May 30, 2010. This study was modified to change the Principal Investigator from Dr. Tim Markowitz to Dr. McGuire. This amended GA LOC supercedes version 481-1795, issued on May 20, 2005.

File No. 10036: Issued to Brent S. Stewart, Ph.D., J.D., Hubbs-SeaWorld Research Institute, 2595 Ingraham Street, San Diego, CA 92109, on August 21, 2007, for studies of the breeding and vocal behavior of four species of seals in the Antarctic pack ice and fast ice of western Amundsen, Bellingshausen, and eastern Ross seas between September 1, and November 2, 2007. This study will result in takes of Ross seals (Ommatophoca rossii), crabeater seals (Lobodon carcinophaga), Weddell seals (Leptonychotes weddellii), and leopard seals (Hydrurga leptonyx).

File No. 699-1891-02: Issued to Kathryn A. Ono, Ph.D., University of New England, 11 Hills Beach Road, Biddeford, ME 04005 on August 24, 2007, for a study to determine the diet of seals off the coast of Maine and to use fecal DNA to determine if hard part analysis is an accurate representation of the occurrence of certain prey species in pinniped diets. This study, which will result in harassment of gray seals, harbor, harp, and hooded seals in coastal Maine through December 1, 2011, was modified to allow harassment of additional harbor and gray seals during scat collections. This amended GA LOC supercedes version 699-1891-01, issued on June 8, 2007.

In compliance with the National Environmental Policy Act of 1969 (42 U.S.C. 4321 et seq.), a final determination has been made that the activities are categorically excluded from the requirement to prepare an environmental assessment or environmental impact statement.

Dated: October 9, 2007.
P. Michael Payne,
Chief, Permits, Conservation and Education Division, Office of Protected Resources, National Marine Fisheries Service.

[FR Doc. E7-20231 Filed 10-12-07; 8:45 am]

BILLING CODE 3510-22-S